DEPARTMENT OF AGRICULTURE

Submission for OMB Review; Comment Request

December 7, 2016.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by January 11, 2017 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal Plant and Health Inspection Service

Title: Irradiation Phytosanitary Treatment for Fresh Fruits and Vegetables.

OMB Control Number: 0579-0155.

Summary of Collection: Under the Plant Protection Act (7 U.S.C. 7701-7772), the Animal and Plant Health Inspection Service (APHIS) is authorized, among other things, to regulate the importation of plants, plant products, and other articles to prevent the introduction of plant pests into the United States. The regulations in 7 CFR 319 include specific requirements for the importation of fruits and vegetables. The regulations in 7 CFR 305 provide for the use of irradiation as a phytosanitary treatment for certain fruits and vegetables imported in the United States. The irradiation treatment provides protection against all inspect pest including fruit flies, the mango seed weevil, and others.

Need and Use of the Information: APHIS will collect information using a compliance agreement, 30-day notification, labeling packaging, dosimetry recordings, requests for dosimetry device approval, recordkeeping, requests for facility approval, work plan, trust fund agreement, phytosanitary certificate, and denial and withdrawal certification. Without the collection of this information, APHIS would have no practical way of determining that any given commodity had actually been irradiated. Irradiation leaves no residue and usually causes no discernible change to the commodity's color or texture.

Description of Respondents: Business or other for profit; Federal Government.

Number of Respondents: 63.

Frequency of Responses: Recordkeeping; Reporting: On occasion.

Total Burden Hours: 347.

Ruth Brown,
Departmental Information Collection Clearance Officer.

[FR Doc. 2016-29714 Filed 12-9-16; 8:45 am]

BILLING CODE 3410-34-P